DEPARTMENT OF HEALTH AND HUMAN SERVICES

National Institutes of Health

Notice of Meeting; NIH Human Fetal Tissue Research Ethics Advisory Board—FY2020

Pursuant to section 10(d) of the Federal Advisory Committee Act, as amended, notice is hereby given of a virtual meeting of the NIH Human Fetal Tissue Research Ethics Advisory Board—FY2020.

The meeting will be open to the public as indicated below. Individuals who need special assistance with virtual attendance, such as sign language interpretation or other reasonable accommodations, should notify the Contact Person listed below in advance of the meeting.

The meeting will be closed to the public, as indicated below, in accordance with the provisions set forth in sections 552b(c)(4) and 552b(c)(6), Title 5 U.S.C., as amended. The grant and cooperative agreement applications and R&D contract proposals and the discussions could disclose confidential trade secrets or commercial property such as patentable material, and personal information concerning individuals associated with the grant and cooperative agreement applications and R&D contract proposals, the disclosure of which would constitute a clearly unwarranted invasion of personal privacy.

Name of Committee: NIH Human Fetal Tissue Research Ethics Advisory Board—FY2020.

Date: July 31, 2020.

Open: 10:00 a.m.-11:05 a.m.

Agenda: Welcome and Charge to the Ethics Advisory Board; Introduction of Committee Members; Confidentiality and Conflict of Interest Procedures; Meeting Procedures; and Public Comment Period.

Place: Virtual Meeting/Webcast (link for the meeting will be available at https://osp.od.nih.gov/biotechnology/nih).

Closed: 11:15 a.m.-4:15 p.m.

Agenda: To make recommendations regarding the ethics of research involving human fetal tissue (HFT) proposed in NIH grant and cooperative agreement applications and R&D contract proposals, as set forth in the NIH Guide Notice NOT-OD-19-128.

Contact Person: Cari Young, ScM, Health Science Policy Analyst, Office of Science Policy, Office of the Director, National Institutes of Health, 6705 Rockledge Drive, Suite 750, Bethesda, MD 20892, 301-496-9838, SciencePolicy@od.nih.gov.

“This notice is being published less than 15 days prior to the meeting due to the unforeseen circumstances of COVID-19 which required the Department's full response and caused a delay in moving this committee and meeting forward.”

There will be a 20-minute public comment period during the open portion of the meeting. Any member of the public interested in presenting oral comments to the committee, during the public hearing must notify the Contact Person listed on this notice at least 4 days in advance of the meeting to reserve a time slot. Interested individuals and representatives of organizations may submit a letter of intent, a brief description of the organization represented, and a short description of the oral presentation. Only one representative of an organization may be allowed to present and oral comments will be limited to two minutes. Both printed and electronic copies are requested for the record. Once all time slots are filled, only written comments will be accepted. Any interested person may file written comments with the committee by forwarding their statement to the Contact Person listed on this notice. The Contact person should receive any written statements no later than 2 days before the meeting. The statement should include the name, address, telephone number and when applicable, the business or professional affiliation of the interested person.

Information is also available on the NIH Office of Science Policy's web page: https://osp.od.nih.gov/biotechnology/nih-human-fetal-tissue-research-ethics-advisory-board/ where an agenda, link to the webcast meeting, and any additional information for the meeting will be posted when available.

Dated: July 10, 2020.
Natasha M. Copeland,
Deputy Director, Office of Federal Advisory Committee Policy.

[FR Doc. 2020-15241 Filed 7-14-20; 8:45 am]

BILLING CODE 4140-01-P